DEPARTMENT OF THE INTERIOR

Fish and Wildlife Service

50 CFR Part 17

[Docket No. FWS-R3-ES-2013-0017; 4500030113]

RIN 1018-AZ58

Endangered and Threatened Wildlife and Plants; Designation of Critical Habitat for the Dakota Skipper and Poweshiek Skipperling; Correction

AGENCY: Fish and Wildlife Service, Interior.

ACTION: Correcting amendments.

SUMMARY: We, the U.S. Fish and Wildlife Service, published a final rule in the Federal Register on October 1, 2015, to designate critical habitat for the Dakota skipper (Hesperia dacotae) and the Poweshiek skipperling (Oarisma poweshiek), under the Endangered Species Act of 1973, as amended (Act). Inadvertently, we published a map of a critical habitat unit for the Dakota skipper in Minnesota where we should have published a map for the Poweshiek skipperling. This document makes the necessary correction to the critical habitat designation for the Poweshiek skipperling. We are also replacing a map depicting critical habitat for Poweshiek skipperling in Minnesota to make an editorial correction in the title.

DATES: This correction is effective April 3, 2018.

FOR FURTHER INFORMATION CONTACT: Susan Wilkinson, (703) 358-2506. If you use a telecommunications device for the deaf (TDD), call the Federal Relay Service at 800-877-8339.

SUPPLEMENTARY INFORMATION: The Dakota skipper (Hesperia dacotae) is listed under the Act as a threatened species, and the Poweshiek skipperling (Oarisma poweshiek) is listed as endangered. In a final rule that published October 1, 2015 (80 FR 59248), we designated critical habitat for the two butterfly species pursuant to the Act (16 U.S.C. 1531 et seq.). The rule added critical habitat for these species to title 50 of the Code of Federal Regulations (CFR) at 50 CFR 17.95(i). The rule included 32 maps showing critical habitat areas for the Dakota skipper and 48 maps showing critical habitat areas for the Poweshiek skipperling. We inadvertently inserted a map showing critical habitat for the Dakota skipper for Minnesota Unit 7 in the location where we should have included a map showing critical habitat for the Poweshiek skipperling for Minnesota Unit 7. The two maps are different because the areas being designated for each species as “Minnesota Unit 7” are different. Therefore, with this document, we remove the incorrect map at paragraph (28) of the entry for Poweshiek skipperling and insert the correct map in its place. We are also replacing the map depicting critical habitat for Poweshiek skipperling for Minnesota Unit 10 at paragraph (30) to make an editorial correction in the title. The old map referred to “Swift and Chippewa County,” and the new map correctly refers to “Swift and Chippewa Counties.”

Previous Federal Action

We listed the Dakota skipper as a threatened species and the Poweshiek skipperling as an endangered species on October 24, 2014 (79 FR 63672) with a rule issued under section 4(d) of the Act for the Dakota skipper. This rule followed publication on October 24, 2013, of a proposal to list the Dakota skipper as threatened with a section 4(d) rule and the Poweshiek skipperling as endangered (78 FR 63573). Also on October 24, 2013, we published in the Federal Register a proposed critical habitat designation for the Dakota skipper and Poweshiek skipperling (78 FR 63625). We published a final rule designating critical habitat for the two species on October 1, 2015 (80 FR 59248).

Administrative Procedure

As explained above, this rulemaking is necessary to correct an error associated with the publication of a map for the wrong species and an editorial error related to the title of a map. Therefore, under these circumstances, we have determined, pursuant to 5 U.S.C. 553(b)(3)(B), that prior notice and opportunity for public comment are impractical and unnecessary. Public opportunity for comment is simply not required when an agency amends a regulation to remove regulatory provisions that are nor consistent with law. Such action is ministerial in nature and allows for no discretion on the part of the agency. Thus, public comment could not inform this process in any meaningful way. We have further determined that, under 5 U.S.C. 553(d)(3), the agency has good cause to make this rule effective upon publication, which is to comply with the Act as soon as practicable.

List of Subjects in 50 CFR Part 17

Endangered and threatened species, Exports, Imports, Reporting and recordkeeping requirements, Transportation.

Regulation Promulgation

For the reasons given in the preamble, we amend part 17, subchapter B of chapter I, title 50 of the Code of Federal Regulations, as set forth below:

PART 17—ENDANGERED AND THREATENED SPECIES

1. The authority citation for part 17 continues to read as follows:

Authority: 16 U.S.C. 1361-1407; 1531-1544; 4201-4245; unless otherwise noted.

2. In § 17.95, in the entry for “Poweshiek Skipperling (Oarisma Poweshiek)”, revise paragraphs (i)(28) and (30) to read as follows:

§ 17.95 Critical habitat—fish and wildlife.

* * * * *

(i) Insects.

* * * * *

Poweshiek Skipperling (Oarisma Poweshiek)

* * * * *

(28) PS Minnesota Unit 7, Lincoln and Pipestone Counties, Minnesota. Map of PS Minnesota Unit 7 follows:

BILLING CODE 4333-15-P

* * * * *

(30) PS Minnesota Unit 10, Swift and Chippewa Counties, Minnesota. Map of PS Minnesota Unit 10 follows:

* * * * *

Dated: February 14, 2018.
James W. Kurth,
Deputy Director, U.S. Fish and Wildlife Service, exercising the authority of the Director, U.S. Fish and Wildlife Service.

[FR Doc. 2018-06736 Filed 4-2-18; 8:45 am]

BILLING CODE 4333-15-C